DEPARTMENT OF COMMERCE

National Oceanic and Atmospheric Administration

[I.D. 060706D]

Endangered Species; File No. 1578

AGENCY: National Marine Fisheries Service (NMFS), National Oceanic and Atmospheric Administration (NOAA), Commerce.

ACTION: Notice; Receipt of application.

SUMMARY: Notice is hereby given that the Maine Department of Marine Resources (MDMR) (Gail S. Wippelhauser, Principal Investigator), 21 State House Station, Augusta, ME 04333 has applied in due form for a permit to take shortnose sturgeon (Acipenser brevirostrum) for purposes of scientific research.

DATES: Written, telefaxed, or e-mail comments must be received on or before July 17, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by email. The mailbox address for providing email comments is NMFS.Pr1Comments@noaa.gov. Include in the subject line of the email comment the following document identifier: File No. 1578.

FOR FURTHER INFORMATION CONTACT: Kate Swails or Shane Guan (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to determine the location of spawning and feeding habitat, and migratory pathways of sturgeon in the Penobscot and Kennebec Rivers in Maine. The study would also determine the impact of river flows on migration and habitat use. Researchers would annually capture up to 250 sturgeon from the Penobscot River during the study's first three years. Up to 500 sturgeon would be captured annually from the Kennebec River during the last two years of the study. Sturgeon would be captured with gillnets, measured, weighed, tissue sampled, Passive Integrated Transponder tagged, and released. A sample of sturgeon would be acoustic tagged. Researchers would also sample for eggs and larvae. The permit would be issued for five-years.

Dated: June 12, 2006.
P. Michael Payne,
Chief, Permits, Conservation and Education Division, Office of Protected Resources, National Marine Fisheries Service.

[FR Doc. E6-9501 Filed 6-15-06; 8:45 am]

BILLING CODE 3510-22-S